DEPARTMENT OF HOUSING AND URBAN DEVELOPMENT

[Docket No. FR-5196-N-02]

Capacity Building for Community Development and Affordable Housing Grants: Amendment

AGENCY: Office of the Assistant Secretary for Community Planning and Development, HUD.

ACTION: Notice of Funding Availability (NOFA), amendment.

SUMMARY: On April 9, 2008, HUD published its Fiscal Year (FY) 2008 Capacity Building for Community Development and Affordable Housing Grants notice of funding opportunity (NOFA). Today's notice amends HUD's requirement to provide a cash or in-kind match as set out in the April 9, 2008 publication.

DATES: The application submission date for the Capacity Building for Community Development and Affordable Housing Grants program remains as published in the Federal Register on April 9, 2008.

FOR FURTHER INFORMATION CONTACT: Karen Daly, Director, Office of Policy Development and Coordination, Office of Community Planning and Development, Department of Housing and Urban Development, 451 Seventh Street, SW., Room 7240, Washington, DC 20410-7000; telephone 202-708-1817 (this is not a toll-free number). Persons with speech or hearing impairments may access this number through TTY by calling the toll-free Federal Income Relay Service at 1-800-877-8339.

SUPPLEMENTARY INFORMATION: HUD published its FY2008 Capacity Building for Community Development and Affordable Housing Grants NOFA on April 9, 2008 (73 FR 19380). The FY2008 NOFA makes approximately $36.95 million available competitively to carry out the eligible activities related to community development and affordable housing for the capacity building program. This competition is limited to Living Cities/The National Community Development Initiative, Enterprise Community Partners, Inc. (formerly The Enterprise Foundation), the Local Initiatives Support Corporation (LISC), and Habitat for Humanity International.

In the April 9, 2008 publication, HUD stated that Section 4(c) of the HUD Demonstration Act of 1993 requires that each dollar awarded under the NOFA must be matched by three-dollars in cash or in-kind contribution obtained from private sources. HUD made this an application threshold requirement, stating specifically that applicants were required to submit with their applications documentation providing a firm commitment to demonstrate the existence of the match. Upon reconsideration, however, HUD has decided to withdraw the requirement that applicants meet the match as a threshold for the competition. HUD is taking this action because individual projects and actions may not be known to applicants at the time they submit their applications. As a result, it may be difficult for applicants to submit documentation with their applications to meet the match requirement.

Accordingly, HUD is amending its FY2008 Capacity Building for Community Development and Affordable Housing Grants NOFA published on April 9, 2008 (73 FR 19380), as follows:

On page 19380, section III.B., HUD is amending this paragraph to read as follows:

B. Match Requirement

Section 4(c) of the HUD Demonstration Act of 1993 requires that each dollar awarded must be matched by three-dollars in cash or in-kind contribution obtained from private sources. To receive funding under this NOFA, each of the organizations funded under this competition will be required at the time the organization enters into a grant agreement, to document its share of matching resources. The types of documentation accepted by HUD will be determined at the time that the organization enters into a grant agreement. All match including in-kind contributions, shall conform to the requirements of 24 CFR 84.23.

On page 19383, section V.A.4., HUD is amending this paragraph to read as follows:

4. Rating Factor 4: Leveraging Resources (15 points)

This factor evaluates the applicant's ability to leverage (secure) public and/or private sector resources (such as financing, supplies, or services) from sources other than Section 4 that can be added to Section 4 funds to perform eligible activities and sustain the applicant's proposed project. Higher points will be awarded for higher percentages of leveraged resources, compared to the amount of Section 4 funds requested. For leveraging, HUD's Management Plan has a performance goal of ten investment dollars from outside sources in total project development costs for each Section 4 grant awarded. To document leveraging for the FY2008 NOFA, applicants should report their actual results in leveraging Section 4-assisted projects in Federal Fiscal Year 2007 (October 1, 2006-September 30, 2007). All leveraging commitments shall be scanned and attached to the electronic application or submitted via fax using form HUD-96011, “Third Party Documentation Facsimile Transmittal” (“Facsimile Transmittal Form” on Grants.gov) as part of the application.

Dated: June 11, 2008.
Nelson R. Bregón,
General Deputy Assistant Secretary for Community Planning and Development.

[FR Doc. E8-13691 Filed 6-17-08; 8:45 am]

BILLING CODE 4210-67-P